DEPARTMENT OF ENERGY

Federal Energy Regulatory Commission

[Wells Rural Electric Company; Docket No. ER00-611-000 and EL00-19-000 (not consolidated)]

Notice of Issuance of Order

January 18, 2000. Wells Rural Electric Company (WREC) is a Nevada rural electric cooperative providing electrical service to approximately 5,300 customers in northeastern Nevada and Tooele County, Utah. On November 19, 1999, in Docket No. EL00-19-000, WREC filed a request for waiver of the requirements of Order Nos. 888 and 889. In its filing, WREC also requested certain waivers and authorizations. In particular, WREC requested that the Commission grant blanket approval under 18 CFR Part 34 of all future issuances of securities and assumptions of liabilities by WREC. On January 12, 2000, the Commission issued an Order Granting Request For Waivers of Order Nos. 888 And 889, Addressing Requests For Other Waivers And Accepting Agreements For Filing (Order), in the above-docketed proceedings.

The Commission's January 12, 2000 Order granted the request for blanket approval under Part 34, subject to the conditions found in Ordering Paragraphs (D), (E), and (G):

(D) Within 30 days of the date of this order, any person desiring to be heard or to protest the Commission's blanket approval of issuances of securities or assumptions of liabilities by WREC should file a motion to intervene or protest with the Federal Energy Regulatory Commission, 888 First Street, N.E., Washington, D.C. 20426, in accordance with Rules 211 and 214 of the Commission's Rules of Practice and Procedure, 18 CFR 385.211 and 385.214.

(E) Absent a request to be heard within the period set forth in Ordering Paragraph (D) above, WREC is hereby authorized to issue securities and assume obligations and liabilities as guarantor, indorser, surety or otherwise in respect of any security of another person; provided that such issue or assumption is for some lawful object within the corporate purposes of WREC compatible with the public interest, and reasonably necessary or appropriate for such purposes.

(G) The Commission reserves the right to modify this order to require a further showing that neither public nor private interests will be adversely affected by continued Commission approval of WREC's issuances of securities or assumptions of liabilities . . .

Notice is hereby given that the deadline for filing motions to intervene or protests, as set forth above, is February 11, 2000.

Copies of the full text of the Order are available from the Commission's Public Reference Branch, 888 First Street, N.E., Washington, D.C. 20426. The Order may also be viewed on the Internet at http://www.ferc.fed.us/online/rims.htm (call 202-208-2222 for assistance).

David P. Boergers,
Secretary.

[FR Doc. 00-1584 Filed 1-21-00; 8:45 am]

BILLING CODE 6717-01-M